DEPARTMENT OF STATE

[Public Notice: 10839]

Industry Advisory Group: Notice of Charter Renewal

The Department of State has approved the renewal of the charter for the Bureau of Overseas Buildings Operations' (OBO) Industry Advisory Group for an additional two-year period. The group's annual meeting is held in the Harry S Truman Building at the U.S. Department of State, located at 2201 C Street NW, Washington, DC. Each meeting is devoted to an exchange of ideas between OBO's senior management and the group members on issues relating to asset and property management, planning, acquisition, sales, leasing, design, engineering, construction, historic preservation, resiliency, natural hazards, emergency operations, program development, as well as facilities operations and maintenance.

The meetings are open to the public and are subject to advance registration and provision of required security information. Procedures for registration are included with each meeting announcement, no later than fifteen business days before each meeting.

OBO provides safe, secure, functional, and resilient facilities that represent the U.S. government to the host nation and support our staff in the achievement of U.S. foreign policy objectives. These facilities represent American values and the best in American architecture, design, engineering, technology, sustainability, art, culture, and construction execution.

The authority for this Notice is the Federal Advisory Committee Act, 5 U.S.C. Appendix. For further information, please contact Christine Foushee at FousheeCT@state.gov.

Addison D. Davis IV,
Director, Overseas Buildings Operations, U.S. Department of State.

[FR Doc. 2019-17869 Filed 8-19-19; 8:45 am]

BILLING CODE 4710-51-P